DEPARTMENT OF ENERGY

Federal Energy Regulatory Commission

Combined Notice of Filings #1

Take notice that the Commission received the following electric rate filings:

Docket Numbers: ER21-2393-000.

Applicants: Arizona Public Service Company.

Description: Compliance filing: Spot Market Sales above Soft Price Cap during August 2020 Extreme Heat Event to be effective N/A.

Filed Date: 7/9/21.

Accession Number: 20210709-5140.

Comments Due: 5 p.m. ET 7/30/21.

Docket Numbers: ER21-2394-000.

Applicants: Tucson Electric Power Company.

Description: § 205(d) Rate Filing: Rate Schedule No. 326 Gila Third Amended Ownership Agreement to be effective 7/13/2021.

Filed Date: 7/12/21.

Accession Number: 20210712-5005.

Comments Due: 5 p.m. ET 8/2/21.

Docket Numbers: ER21-2395-000.

Applicants: Viridity Energy Solutions Inc.

Description: Petition for Limited Waiver of Viridity Energy Solutions, Inc.

Filed Date: 7/9/21.

Accession Number: 20210709-5159.

Comments Due: 5 p.m. ET 7/16/21.

Docket Numbers: ER21-2396-000.

Applicants: Guzman Energy, LLC.

Description: Compliance filing: Cost justification filing to be effective N/A.

Filed Date: 7/12/21.

Accession Number: 20210712-5073.

Comments Due: 5 p.m. ET 8/2/21.

Docket Numbers: ER21-2397-000.

Applicants: Southwestern Public Service Company.

Description: § 205(d) Rate Filing: 2021-07-12 SPS-TTC-Utility Reloc Agrmt-729-0.0.0 to be effective 7/13/2021.

Filed Date: 7/12/21.

Accession Number: 20210712-5102.

Comments Due: 5 p.m. ET 8/2/21.

Docket Numbers: ER21-2398-000.

Applicants: ALLETE, Inc.

Description: § 205(d) Rate Filing: Certificate of Concurrence (Bemidji OMA) to be effective 4/24/2013.

Filed Date: 7/12/21.

Accession Number: 20210712-5113.

Comments Due: 5 p.m. ET 8/2/21.

Docket Numbers: ER21-2399-000.

Applicants: ALLETE, Inc.

Description: § 205(d) Rate Filing: Certificate of Concurrence (Bemidji TCEA) to be effective 4/24/2013.

Filed Date: 7/12/21.

Accession Number: 20210712-5116.

Comments Due: 5 p.m. ET 8/2/21.

Take notice that the Commission received the following PURPA 210(m)(3) filings:

Docket Numbers: QM21-25-000.

Applicants: Buckeye Power, Inc.

Description: Application of Buckeye Power, Inc. to Terminate Its Mandatory Purchase Obligation under the Public Utility Regulatory Policies Act of 1978.

Filed Date: 6/16/21.

Accession Number: 20210616-5128.

Comments Due: 5 p.m. ET 7/14/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2021.
Debbie-Anne A. Reese,
Deputy Secretary.

[FR Doc. 2021-15155 Filed 7-15-21; 8:45 am]

BILLING CODE 6717-01-P